ENVIRONMENTAL PROTECTION AGENCY

40 CFR Part 52

[EPA-R09-OAR-2015-0645; FRL-9942-17-Region 9]

Approval of Arizona Air Plan Revisions; Phoenix, Arizona; Second 10-Year Carbon Monoxide Maintenance Plan

AGENCY: Environmental Protection Agency (EPA).

ACTION: Final rule.

SUMMARY: The Environmental Protection Agency (EPA) is taking final action to approve a revision to the Arizona State Implementation Plan (SIP). This revision is the second ten-year maintenance plan for carbon monoxide (CO) for the Phoenix metropolitan area in Maricopa County, Arizona. We are also finding adequate and approving transportation conformity motor vehicle emissions budgets (MVEB) for the year 2025 and beyond. We are taking these actions under the Clean Air Act (CAA or the Act).

DATES: This rule is effective on April 4, 2016.

ADDRESSES: The EPA has established docket number EPA-R09-OAR-2015-0645 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: John Kelly, EPA Region IX, (415) 947-4151, kelly.johnj@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On October 19, 2015 (80 FR 63185), the EPA proposed to approve the Maricopa Association of Governments' (MAG) plan titled “MAG 2013 Carbon Monoxide Maintenance Plan for the Maricopa County Area” (hereinafter, “2013 Maintenance Plan”) into the Arizona SIP.

We also proposed to find adequate and to approve into the SIP the CO MVEB for the year 2025 and beyond.

We proposed to approve this plan and the CO MVEB because we determined that they complied with the relevant CAA requirements. Our proposed action contains more information on the plan and MVEB and our evaluation.

II. Public Comments and EPA Responses

The EPA's proposed action provided a 30-day public comment period. During this period, we received no comments.

III. EPA Action

No comments were submitted. Therefore, as authorized in section 110(k)(3) of the Act, the EPA is fully approving this plan into the Arizona SIP. The EPA is also finding adequate and approving the motor vehicle emissions budgets in the plan (see Table 1) because we find they meet the applicable transportation conformity requirements under 40 CFR 93.118(e). Table 1 shows the approved and previously approved MVEBs for the Phoenix CO Maintenance Area.

Table 1—Approved and Previously Approved Transportation Conformity Motor Vehicle Emissions Budgets for the Phoenix CO Maintenance Area, in Metric Tons per Day (mtpd)
| Previously approved | Previously approved | Approved
Year | 2006 | 2015 | 2025
CO MVEB | 699.7 | 662.9 | 559.4

IV. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 2, 2016. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Incorporation by reference, Intergovernmental relations, Reporting and recordkeeping requirements.

Dated: January 25, 2016.
Jared Blumenfeld,
Regional Administrator, Region IX.

Part 52, Chapter I, Title 40 of the Code of Federal Regulations is amended as follows:

PART 52—APPROVAL AND PROMULGATION OF IMPLEMENTATION PLANS

1. The authority citation for part 52 continues to read as follows:

Authority: 42 U.S.C. 7401 et seq.

Subpart D—Arizona

2. Section 52.120 is amended by adding paragraph (c)(173) to read as follows:

§ 52.120 Identification of plan.

* * * * *

(c) * * *

(173) The following plan was submitted on April 2, 2013 by the Governor's designee.

(i) [RESERVED].

(ii) Additional materials.

(A) Arizona Department of Environmental Quality.

(1) MAG 2013 Carbon Monoxide Maintenance Plan for the Maricopa County Area, adopted by the Maricopa Association of Governments on March 27, 2013.

* * * * *

[FR Doc. 2016-04614 Filed 3-2-16; 8:45 am]

BILLING CODE 6560-50-P